DEPARTMENT OF HEALTH AND HUMAN SERVICES

Centers for Disease Control and Prevention

[60 Day-07-07AS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Focus Group Testing and Survey on Radiological Event Messages for Public Health Workers—New—National Center for Environmental Health (NCEH), Centers for Disease Control and Prevention (CDC).

Background and Brief Description

In January 2003, CDC held a roundtable to specifically address communications needs likely to arise in the aftermath of a terrorist event involving mass casualties. Hospital administrators and clinicians, public health practitioners, and emergency planners emphasized the gaps in their training and in their knowledge of how to respond to nuclear or radiological events.

Concurrent with this, CDC began working with the Association of Schools of Public Health (ASPH) to assess knowledge, attitudes, and behaviors related to preparedness for a radiological or nuclear terrorist event in the United States. The strong and clear message delivered to the CDC was that both the professional (e.g., clinicians and public health workers) and the lay American public were unprepared to respond to such an event (Becker 2004). Specifically, clinicians who participated in the research acknowledged a lack of training and preparedness, a potential unwillingness to treat patients if they are perceived as radiologically contaminated, and concerns about public panic and consequent overwhelming of hospitals and other clinical systems. More importantly, findings from the meeting revealed a critical need to assess communication preparedness among public health workers in relation to radiological emergencies.

This proposal addresses the need for the development of clear communication messages in the event of a radiological incident. As part of a cooperative agreement, CDC has contracted with the National Public Health Information Coalition (NPHIC) to collect data from public health workers in 6 states—California, Iowa, Kansas, Michigan, North Carolina and South Carolina—to evaluate a set of messages that have been developed by CDC for public health workers to use before, during and after a radiological event. The 5 communication messages focus on the main concerns expressed by representatives from these 6 states and other participants in audience research. The participating states volunteered for this project. Public health workers referenced in this proposal are nurses, physicians, clinical technicians, administrative, management and support staff and epidemiologists.

CDC's primary goal is to protect the health and safety of the public. Since public health workers are usually first responders in various capacities in the event of a radiological emergency, the need to develop time-sensitive and consistent communication messages is vital. Developing clear messages that can be used by public health workers as an integral part of their radiological emergency plan is consistent with this goal. These message concepts, which range from how to protect the worker and family to the role of the public health worker during a radiological emergency will serve as a reference tool and guidance for state health departments in the event of such situations.

This proposal seeks approval to obtain data using two methods—focus group testing and electronic surveys—to achieve greater results. Focus group testing will be conducted to obtain qualitative data that will be gathered through a series of six focus groups of public health workers, one in each participating state. Each focus group will consist of 12 participants to equal 72 respondents, and will be about 1½ hour in length. The focus group testing will assess attitudes, knowledge and emotional response. Of particular interest will be how the participants might react to radiological concepts pertaining to their roles as public health workers and scenarios that will be included in the messages. Quantitative data will be obtained through a one-time electronic survey to randomly selected public health workers in the six states to equal 2,022 respondents. The participants who will be participating in the electronic survey will not be included in the focus group testing.

CDC proposes to use this information to develop a final set of communication messages. The intent is for the messages to be disseminated using various methods and to provide a more consistent platform for states to respond to radiological emergencies. This research will help refine messages that have the ability to increase the percentage of workers who present to deliver services in a radiological emergency. Also, as a result of the study, CDC will have a set of tested public health messages that can allow public health workers to speak with one voice to the general public in a radiological emergency. In addition, the development of these messages will foster collaboration among the states and CDC.

Therefore CDC requests approval to test one set of five messages among public health workers using focus group testing and electronic surveys. There are no costs to respondents except their time to participate in the survey.

Estimated Annualized Burden Hours
Respondents | No. of Respondents | Number of responses per respondent | Average burden per response (in hours) | Total burden hours
Focus Groups | 72 | 1 | 1.5 | 108
Electronic Surveys | 2,022 | 1 | 20/60 | 674
Total |  |  |  | 782

Dated: March 29, 2007.
Joan F. Karr,
Acting Reports Clearance Officer, Centers for Disease Control and Prevention.

[FR Doc. E7-6337 Filed 4-4-07; 8:45 am]

BILLING CODE 4163-18-P